DEPARTMENT OF COMMERCE

International Trade Administration

[A-583-831]

Stainless Steel Sheet and Strip in Coils from Taiwan: Extension of Time Limits for Preliminary Results of Antidumping Duty Administrative Review

AGENCY: Import Administration, International Trade Administration, Department of Commerce.

ACTION: Extension of time limits for the preliminary results of antidumping duty administrative review.

SUMMARY: The Department of Commerce (“the Department”) is extending the time limits for the preliminary results of the antidumping duty administrative review of stainless steel sheet and strip (“SSSS”) from Taiwan.

EFFECTIVE DATE: March 6, 2002.

FOR FURTHER INFORMATION CONTACT: Laurel LaCivita, AD/CVD Enforcement Group III, Office 9, Import Administration, International Trade Administration, U.S. Department of Commerce, 14th Street and Constitution Avenue, N.W., Washington, D.C. 20230; telephone: (202) 482-4243.

BACKGROUND:

On September 24, 2001, we published a notice of initiation of a review of SSSS from Taiwan covering the period July 1, 2000 through June 30, 2001. See Initiation of Antidumping and Countervailing Duty Administrative Reviews and Requests for Revocation in Part, October 1, 2001 (66 FR 49924). The preliminary results of review are currently due on April 2, 2002.

EXTENSION OF TIME LIMITS FOR PRELIMINARY RESULTS

Section 751(a)(3)(A) of the Act states that if it is not practicable to complete the review within the time specified, the administering authority may extend the 245-day period to issue its preliminary results by 120 days. Completion of the preliminary results of this review within the 245-day period is impracticable for the following reasons:

• The review involves a large number of transactions and complex adjustments.

• The review involves a large number of companies.

• All companies include sales and cost investigations which require the Department to gather and analyze a significant amount of information pertaining to each company's sales practices, manufacturing costs and corporate relationships.

Therefore, in accordance with section 751(a)(3)(A) of the Act, we are extending the time period for issuing the preliminary results of review by 90 days until July 1, 2002. The final results continue to be due 120 days after the publication of the preliminary results.

February 27, 2002
Joseph A. Spetrini,
Deputy Assistant Secretary for Import Administration, Group III.

[FR Doc. 02-5348 Filed 3-5-02; 8:45 am]

BILLING CODE 3510-DS-S